DEPARTMENT OF DEFENSE

Department of the Army; Corps of Engineers

Notice of Availability for the Draft Environmental Impact Statement for Hemet/San Jacinto Integrated Recharge and Recovery Project, Riverside County, CA; Correction

AGENCY: Department of the Army—U.S. Army Corps of Engineers, DoD.

ACTION: Notice of Availability; correction.

SUMMARY: The U.S. Army Corps of Engineers, Los Angeles District (Regulatory Branch), in coordination with the Eastern Municipal Water District (EMWD), announced availability of a Draft Environmental Impact Statement (EIS) for the Hemet/San Jacinto Integrated Recharge and Recovery Project. The announced deadline for submittal of comments has been corrected in order to meet the statutory 45-day requirement. The new deadline is October 31, 2006.

FOR FURTHER INFORMATION CONTACT: Dr. Daniel P. Swenson, Regulatory Branch, U.S. Army Corps of Engineers, P.O. Box 532711, Los Angeles, CA 90053, (213) 452-3414.

SUPPLEMENTARY INFORMATION: None.

David J. Castanon,
Chief, Regulatory Branch.

[FR Doc. 06-7977 Filed 9-21-06; 8:45 am]

BILLING CODE 3710-KF-P